DEPARTMENT OF STATE

[Public Notice 4670]

Bureau of Educational and Cultural Affairs Request for Grant Proposals: Central and Eastern European Professional Exchanges and Training Program for Albania, Bulgaria, Croatia, Kosovo, Macedonia, Serbia and Montenegro, and Slovenia

SUMMARY: The Europe/Eurasia division of the Office of Citizen Exchanges of the Bureau of Educational and Cultural Affairs announces an open competition for Central and Eastern European Professional Exchanges and Training Programs for Albania, Bulgaria, Croatia, Kosovo, Macedonia, Romania, Serbia and Montenegro, and Slovenia. The office anticipates awarding approximately three grants under this overall competition. Public and private non-profit organizations meeting the provisions described in Internal Revenue Code section 26 U.S.C. 501(c)(3) may submit proposals that support international projects in the United States and overseas involving current or potential leaders.

Interested applicants should read the complete Federal Register announcement before addressing inquiries to the Office of Citizen Exchanges or submitting proposals.

Announcement Title and Number: All correspondence with the Bureau concerning this RFGP should reference the above title and number ECA/PE/C/EUR-04-46.

FOR FURTHER INFORMATION CONTACT: The Office of Citizen Exchanges, ECA/PE/C/EUR, Room 224, U.S. Department of State, SA-44, 301 4th Street, SW., Washington, DC 20547, Attention: Central and Eastern Europe Professional Exchanges and Training Program, telephone number: 202-619-5327, fax number 202-619-4350 or scotthc@state.gov to request a Solicitation Package. The Solicitation Package contains detailed award criteria, required application forms, specific budget instructions, and standard guidelines for proposal preparation.

For specific inquiries, please contact Bureau program officers by phone or e-mail: Brent Beemer (202) 401-6887 (beemerbt@state.gov) and Henry Scott (202) 619-5327 (scotthc@state.gov).

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

General Program Guidelines: Applicants should identify the local organizations and individuals in the counterpart country with whom they are proposing to collaborate and describe in detail previous cooperative programming and/or contacts. Specific information about the counterpart organizations' activities and accomplishments should be included in the section on Institutional Capacity. Proposals should contain letters of support tailored to the project being proposed from foreign-country partner organizations.

Exchanges and training programs supported by institutional grants from the Bureau should operate at two levels: they should enhance institutional partnerships, and they should offer practical information and experience to individuals and groups to assist them with their professional responsibilities. Strong proposals usually have the following characteristics:

• A proven track record of working in the proposed issue area and country;

• Experienced staff with language facility and a commitment by the staff to monitor projects locally to ensure implementation;

• A clear, convincing plan showing how permanent results will be accomplished as a result of the activity funded by the grant; and

• A plan that outlines activities that will take place after the Bureau grant concludes.

Proposal narratives should clearly demonstrate an organization's commitment to consult closely with the Public Affairs Section, and when required, other officers at the U.S. Embassy. Proposal narratives must confirm that all materials developed for the project will acknowledge Bureau funding for the program as well as a commitment to invite representatives of the Embassy and/or Consulate to participate in various program sessions/site visits. Please note that this will be a formal requirement in all final grant awards.

Suggested Program Designs: Bureau-supported exchanges may include internships; study tours; short-term, non-technical experiential learning, extended and intensive workshops and seminars taking place in the United States or overseas. Examples of program activities include:

1. A U.S.-based program that includes: Orientation to program purposes and to U.S. society; study tour/site visits; professional internships/placements; interaction and dialogue; hands-on training; professional development; and action plan development. Proposals that include U.S.-based training will receive the highest priority.

2. Capacity-building/training-of-trainer (TOT) workshops to help participants to identify priorities, create work plans, strengthen professional and volunteer skills, share their experience with committed people within each country, and become active in a practical and valuable way.

3. Site visits by U.S. facilitators/experts to monitor projects in the region and to provide additional training and consultations as needed.

Activities ineligible for support: The Office does not support proposals limited to conferences or seminars (i.e., one to fourteen-day programs with plenary sessions, main speakers, panels, and a passive audience). It will support conferences only when they are a small part of a larger project in duration that is receiving Bureau funding from this competition. The Office will only support workshops, seminars and training sessions that are an integral part of a larger project. No funding is available exclusively to send U.S. citizens to conferences or conference-type seminars overseas; nor is funding available for bringing foreign nationals to conferences or to routine professional association meetings in the United States. The Office also does not support academic research or fund faculty or student fellowships.

Selection of Participants: Where applicable, all grant proposals should clearly describe the type of persons who will participate in the program as well as the participant selection process. For programs that include U.S. internships, applicants should submit letters of support from host institutions. In the selection of foreign participants, the Bureau and U.S. Embassies will review all participant nominations and may accept or refuse participants recommended by grantee institutions. When American participants are selected, grantee institutions must provide their names and brief biographical data to the Office of Citizen Exchanges. Priority in two-way exchange proposals will be given to foreign participants who have not previously traveled to the United States. (See section below on requirements for maintenance and provision to the Bureau of data on participants and program activities.)

Evaluation: In general, evaluation should occur throughout the project. The evaluation should incorporate an assessment of the program from a variety of perspectives. Specifically, project assessment efforts will focus on: (a) Determining if objectives are being met or have been met, (b) identifying any unmet needs, and (c) assessing if the project has effectively identified resources, advocates, and financial support for the sustainability of future projects. Informal evaluation through discussions and other sources of feedback will be carried out throughout the duration of the project. Formal evaluation must be conducted at the end of each component, should measure the impact of the activities and should obtain participants' feedback on the program content and administration. A detailed evaluation will be conducted at the conclusion of the project and a report will be submitted to the Department of State Bureau of Educational and Cultural Affairs. When possible, the evaluation should be conducted by an independent evaluator.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA/PE/C/EUR Program Officer at least three work days prior to the official opening of the activity.

Adherence To All Regulations Governing the J Visa: The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq. The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If the applicant has experience as a designated Exchange Visitor Program Sponsor, the applicant should discuss their record of compliance with 22 CFR 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program. A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Program Information

Overview

The Bureau welcomes proposals that respond directly to the themes and countries listed below. Given budgetary considerations, projects in countries and for themes other than those listed will not be eligible for consideration and will be ruled technically ineligible. No guarantee is made or implied that grants will be awarded in all categories.

For this competition, both single country and multi-country projects are eligible for support. In order to prevent duplication of effort, proposals should reflect an understanding of the work of international agencies so that projects complement—not duplicate—other assistance programs.

Two-way exchanges will be given the highest priority. Applicants should carefully review the following recommendations for proposals in Central and Eastern European countries.

To be eligible for a grant award under this competition, the proposed professional training and exchange projects must address one of the following specific themes.

Themes

• Professional Librarian Training for Kosovo (Kosovo only).

• Media Training (Regional Program for Albania, Bulgaria, Croatia, Macedonia, Serbia and Montenegro, and Slovenia).

Professional Librarian Training for Kosovo

The Bureau is accepting proposals for a project that will produce a cadre of professionals from Kosovo who will effectively manage a university library. The Bureau envisions a two-part project that will train a minimum of nine individuals who will work at the University of Pristina Central Library. Applicants should propose a project that provides both U.S.-based and Kosovo-based activities.

The U.S.-based component should last approximately five months, beginning with classroom-style training sessions, followed by a hands-on professional internship at a U.S. university or college library. By participating in the training and internships, participants should acquire the skills and experience that are needed to run a state-of-the-art university library. Participants should learn how to work with e-reference services, the Online Public-Access Catalog, WWW search engines, e-books, e-journals, and the digital library, as well as know how to use Web development tools.

The Kosovo-based component should consist of a follow-up, on-site training and assessment visit by U.S. trainers. While in Pristina, the trainers should propose to meet with representatives of the Public Affairs Section (PAS) at the U.S. Office Pristina before and after completing the training.

The project should prepare participants to work in a virtual library environment, train fellow colleagues in the use of electronic resources, and identify and promote e-resources useful for students and faculty of the university.

The University of Pristina and the Ministry of Education, who are working in tandem to set up the University of Pristina Central Library, should serve as in-country partner organizations and will assist in the recruitment and selection of participants, as well as provide logistical support for in-country activities. Individuals targeted for the training program should be residents of Kosovo and recent graduates of institutions of higher learning, preferably with degrees in areas other than library science. While participants must be proficient in English, knowledge of other languages may prove beneficial since participants will potentially be using e-resources that are in languages other than English. Representatives of PAS will provide final approval of all individuals who are nominated for participation. Applicants are strongly encouraged to contact the U.S. Office Pristina for specific guidance before submitting proposals.

Project funding: The total funding available for this project is approximately $325,000. The Bureau anticipates awarding one grant for this project. For more information on this topic, please contact Henry Scott at (202) 619-5327 scotthc@state.gov.

Media Training

Multi-country projects that include Albania, Bulgaria, Croatia, Macedonia, Serbia and Montenegro, and Slovenia

The Bureau is seeking proposals that will provide training for journalists, editors and media managers from Albania, Bulgaria, Croatia, Macedonia, Serbia and Montenegro, and Slovenia. The program should include an orientation session lasting approximately four days; an internship assignment of approximately five weeks in a small to medium-sized media organization; and a two- to three-day debriefing. Projects should include both English-speaking and non-English-speaking participants; proposals should clearly describe what provisions would be made for non-English speakers. ECA will consider proposals to shorten the internships assignment in order to accommodate interpreting services for non-English speakers. ECA strongly encourages the use of locally hired interpreters. Those applicants that opt to find their own interpreters should submit a budget reflecting those costs and should demonstrate in their proposal narrative the ability to competently address interpreting requirements.

Proposals should outline hands-on, practical internships for the participants. A list of media establishments willing to host the participants as well as tentative letters of commitment should be included in the proposal. A sample program schedule or outline of a similar program that the organization has conducted in the past should also be submitted. Follow-up activities such as in-region workshops or consultations are also strongly encouraged.

Participant Selection: Please note that the winning applicant must consult closely with the Public Affairs Offices at the respective U.S. embassies during program implementation. Embassies will nominate all participants for the program.

The Bureau anticipates funding no more than two grants for this theme, averaging approximately $240,000 each. Approximately 37 participants will be funded through this RFGP. Each proposal should accommodate approximately 17-20 participants and should be regional in focus. ECA will consider proposals that include several distinct exchanges during the life of the grant, but all exchange groups should include participants from at least three countries.

Tentative participant numbers and needs are:

Albania: Two participants. One English-speaker and one non-English speaker.

Bulgaria: Six participants. Three English speakers and three non-English speakers.

Croatia: Four participants. English-speakers only.

Macedonia: Ten participants. Five English and five non-English speakers.

Serbia and Montenegro: Thirteen participants total. For Serbia—four English speakers and four non-English speakers. For Montenegro—five non-English speakers.

Slovenia: Two participants. English speakers only.

Once projects are funded, ECA will work with the grantees to solicit more detailed information on the needs and interests of individual participants. For more information on this topic, please contact Brent Beemer at (202) 401-6887 or beemerbt@state.gov.

Overall Budget Guidelines

Bureau grant guidelines require that organizations with less than four years experience in conducting international exchanges be limited to $60,000 in Bureau funding. Since it is anticipated that all grants awarded under this competition will far exceed $60,000 in Bureau funding, organizations that cannot demonstrate at least four years experience in conducting international exchanges are ineligible to apply under this competition.

Budget Guidelines and Cost Sharing Requirements

Applicants must submit a comprehensive budget for the entire program and must provide a summary budget as well as breakdowns reflecting both administrative and program budgets in the proposal. Applicants may provide separate sub-budgets for each program component, phase, location, or activity to provide clarification. Please refer to the Proposal Submission Instructions (PSI) for complete budget guidelines and formatting instructions.

Since Bureau grant assistance constitutes only a portion of total project funding, proposals should list and provide evidence of other anticipated sources of financial and in-kind support. While there is no minimum requirement, applicants are strongly encouraged to provide cost sharing to the fullest extent possible. State Department Review Panels will consider cost sharing seriously when evaluating all proposals.

The following are deemed allowable program costs:

1. Travel. International and domestic airfare (per the “Fly America Act”), ground transportation, and visas for U.S. participants. (J-1 visas for Bureau-supported participants from Eurasia to travel to the U.S. are issued at no charge.)

2. Per Diem. For U.S.-based programming, organizations should use the published Federal per diem rates for individual U.S. cities. For activities in Eurasia, the Bureau strongly encourages applicants to budget realistic costs that reflect the local economy. Domestic per diem rates may be accessed at: http://policyworks.gov/org/main/mt/homepage/mtt/perdiem/perd03d.html. Foreign per diem rates can be accessed at: http://www.state.gov/m/a/als/prdm/.

3. Interpreters. For U.S.-based activities, ECA strongly encourages applicants to hire their own locally-based interpreters. However, applicants may ask the Bureau to assign U.S. Department of State interpreters, which will decrease the amount of the award. Typically, one interpreter is provided for every four visitors that require interpreting. When an applicant proposes to use State Department interpreters, the following expenses should be included in the budget: Published Federal per diem rates (both “lodging” and “M&IE”); “home-program-home” transportation in the amount of $400 per interpreter; reimbursement for taxi fares; and cell phone usage at $10 per week. If the applicant uses State Department interpreters, salary expenses will be covered by the Bureau and should not be part of an applicant's proposed budget. Bureau funds cannot support interpreters who accompany delegations from their home country or travel internationally.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Such subcontracts should detail the division of responsibilities and proposed costs. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for high-quality translation of materials should be anticipated and included in the budget. Grantee organizations should expect to submit a copy of all program materials to the Bureau.

8. Equipment. Proposals may include limited costs to purchase equipment for Eurasia-based programming such as computers, fax machines, and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Wire transfer fees. When necessary, applicants may include costs to transfer funds to partner organizations overseas. Grantees are urged to research applicable taxes that may be imposed by host governments on these transfers.

13. In-country travel costs for visa processing purposes. Given the new requirements associated with obtaining J-1 visas for Bureau-supported participants, applicants should include costs for participant and/or in-country partner travel and shipping to U.S. embassies or consulates for visa processing purposes, such as interviews and delivery/pick up of DS-2019 forms.

14. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the in-country partner and other sources.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is May 7, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 14 copies (total of 15 copies, secured with binder clips) of the application should be sent to: U.S. Department of State, SA-44, Bureau of Educational and Cultural Affairs, Ref.: ECA/PE/C/EUR-04-46, Program Management, ECA/EX/PM, Room 534, 301 4th Street, SW., Washington, DC 20547.

Applicants must also submit the “Executive Summary” and “Proposal Narrative” sections of the proposal in text (.txt) format on a PC-formatted disk. The Bureau will provide these files electronically to the Public Affairs Sections at the U.S. embassies for their review.

Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the ‘Support for Diversity’ section for specific suggestions on incorporating diversity into the total proposal. Pub. L. 104-319 provides that “in carrying out programs of educational and cultural exchange in countries whose people do not fully enjoy freedom and democracy,” the Bureau “shall take appropriate steps to provide opportunities for participation in such programs to human rights and democracy leaders of such countries.” Pub. L. 106-113 requires that the governments of the countries described above do not have inappropriate influence in the selection process. Proposals should reflect advancement of these goals in their program contents, to the full extent deemed feasible.

Review Process

Proposals will be deemed ineligible if they do not fully adhere to the guidelines stated herein and in the Solicitation Package. All eligible proposals will be reviewed by the program office, as well as the Public Affairs Sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning and Ability To Achieve Program Objectives: Program objectives should be stated clearly and should reflect the applicant's expertise in the subject area and region. Objectives should respond to the priority topics in this announcement and should relate to the current conditions in the target countries. A detailed agenda and relevant work plan should explain how objectives will be achieved and should include a timetable for completion of major tasks. The substance of workshops, internships, seminars and/or consulting should be described in detail. Sample training schedules should be outlined. Responsibilities of in-country partners should be clearly described.

2. Institutional Capacity: The proposal should include (1) the U.S. institution's mission and date of establishment; (2) detailed information about the in-country partner institution's capacity and the history of the U.S. and in-country partnership; (3) an outline of prior awards—U.S. government and private support received for the target theme/region; and (4) descriptions of experienced staff members who will implement the program. Proposed personnel and institutional resources should be adequate and appropriate to achieve the program's goals. The proposal should reflect the institution's expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs in the proposal budget, including salaries, honoraria and subcontracts for services, should be kept to a minimum. Priority will be given to proposals whose administrative costs are less than twenty-five (25) per cent of the total funds requested from the Bureau. Applicants are strongly encouraged to cost share a portion of overhead and administrative expenses. Cost-sharing, including contributions from the applicant, the in-country partner, and other sources should be included in the budget request. Proposal budgets that do not provide cost-sharing will be deemed not competitive in this category.

4. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

5. Evaluation: Proposals should include a detailed plan to monitor and evaluate the program. A draft survey questionnaire plus a description of a methodology that will link outcomes to original project objectives should be provided. Successful applicants will be expected to submit intermediate reports after each project component concludes or on a quarterly basis.

6. Post-Grant Activities: Applicants should provide a plan to conduct activities after the Bureau-funded project has concluded in order to ensure that Bureau-supported programs are not isolated events. Funds for all post-grant activities must be in the form of contributions from the applicant or sources outside of the Bureau. Costs for these activities should not appear in the proposal budget, but should be outlined in the narrative.

Authority: Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” It is anticipated that funding for this competition will be made available from FY-2003 Support for Eastern European Democracies (SEED) Act of 1989 Act resources carried over into FY-2004 for obligation, pending the availability of funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 16, 2004.
Patricia S. Harrison,
Assistant Secretary for Educational and Cultural Affairs, Department of State.

[FR Doc. 04-6713 Filed 3-24-04; 8:45 am]

BILLING CODE 4710-05-P